DEPARTMENT OF THE TREASURY

Alcohol and Tobacco Tax and Trade Bureau

Proposed Information Collections; Comment Request

AGENCY: Alcohol and Tobacco Tax and Trade Bureau, Treasury.

ACTION: Notice and request for comments.

SUMMARY: As part of our continuing effort to reduce paperwork and respondent burden, and as required by the Paperwork Reduction Act of 1995, we invite comments on the proposed or continuing information collections listed below in this notice.

DATES: We must receive your written comments on or before November 17, 2009.

ADDRESSES: You may send comments to Mary A. Wood, Alcohol and Tobacco Tax and Trade Bureau, at any of these addresses:

• P.O. Box 14412, Washington, DC 20044-4412;

• 202-453-2686 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-453-2265.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms and recordkeeping requirements:

Title: Drawback on Wines Exported.

OMB Control Number: 1513-0016.

TTB Form Number: 5120.24.

Abstract: When proprietors export wines that have been produced, packaged, manufactured, or bottled in the U.S., they may file a claim for drawback of the taxes that have already been paid or determined on the wine. This form notifies TTB that the wine was in fact exported and thus helps to protect the revenue and prevent fraudulent claims.

Current Actions: We are submitting this information collection for extension purposes only. The information collection, estimated number of respondents, and estimated total annual burden hours remain unchanged.

Type of Review: Extension of a currently approved collection.

Affected Public: Business and other for profit.

Estimated Number of Respondents: 21.

Estimated Total Annual Burden Hours: 94.

Title: Report—Export Warehouse Proprietor.

OMB Control Number: 1513-0024.

TTB Form Number: 5220.4.

Abstract: Proprietors account for taxable articles on this report. TTB uses this information to ensure that proprietors have complied with Federal laws and regulations and to protect against diversion.

Current Actions: We are submitting this information collection for extension purposes only. The information collection, estimated number of respondents, and estimated total annual burden hours remain unchanged.

Type of Review: Extension of a currently approved collection.

Affected Public: Business or other for-profit.

Estimated Number of Respondents: 80.

Estimated Total Annual Burden Hours: 1,920.

Title: Specific Transportation Bond—Distilled Spirits or Wines Withdrawn for Transportation to Manufacturing Bonded Warehouse—Class Six; and Continuing Transportation Bond—Distilled Spirits or Wines Withdrawn for Transportation to Manufacturing Bonded Warehouse—Class Six.

OMB Control Number: 1513-0031.

TTB Form Numbers: 5100.12 and 5110.67.

Abstract: TTB F 5100.12 and TTB F 5110.67 are specific bonds that protect the tax liability on distilled spirits and wine while in transit from one type of bonded facility to another. The forms identify the shipment, the parties involved, the date, and the amount of bond coverage.

Current Actions: We are submitting this information collection as a revision. We are correcting the number of respondents and burden hours; however, the information collection instruments remain unchanged.

Type of Review: Revision of a currently approved collection.

Affected Public: Business or other for-profit.

Estimated Number of Respondents: 7,010.

Estimated Total Annual Burden Hours: 7,010.

Title: Inventory—Manufacturer of Tobacco Products, Processed Tobacco, or Cigarette Papers and Tubes.

OMB Control Number: 1513-0032.

TTB Form Number: 5210.9.

Abstract: TTB F 5210.9 is necessary to determine the beginning and ending inventories of tobacco products and processed tobacco at the premises of a tobacco products or processed tobacco manufacturer. The information is recorded on this form by the proprietor and is used by TTB to determine tax liability, compliance with regulations, and for protection of the revenue.

Current Actions: We are submitting this information collection for extension purposes only. The information collection, estimated number of respondents, and estimated total annual burden hours remain unchanged.

Type of Review: Extension of a currently approved collection.

Affected Public: Business or other for-profit.

Estimated Number of Respondents: 193.

Estimated Total Annual Burden Hours: 386.

Title: Report—Manufacturer of Tobacco Products or Cigarette Papers and Tubes and Report—Manufacturer of Processed Tobacco.

OMB Control Number: 1513-0033.

TTB Form Numbers: 5210.5 and 5250.1.

Abstract: Manufacturers account for their taxable articles on this report. TTB uses this information to ensure that manufactures have properly paid taxes due and have complied with Federal laws and regulations.

Current Actions: We are submitting this information collection for extension purposes only. The information collection, estimated number of respondents and estimated total annual burden hours remain unchanged.

Type of Review: Extension of a currently approved collection.

Affected Public: Business or other for-profit.

Estimated Number of Respondents: 193.

Estimated Total Annual Burden Hours: 4,632.

Title: Inventory—Export Warehouse Proprietor.

OMB Control Number: 1513-0035.

TTB Form Number: 5220.3.

Abstract: TTB F 5220.3 is used by export warehouse proprietors to record inventories that are required by law and regulations.

Current Actions: We are submitting this information collection for extension purposes only. The information collection, estimated number of respondents, and estimated total annual burden hours remain unchanged.

Type of Review: Extension of a currently approved collection.

Affected Public: Business or other for-profit.

Estimated Number of Respondents: 80.

Estimated Total Annual Burden Hours: 400.

Title: Alcohol Fuel Plants (AFP) Records, Reports, and Notices.

OMB Control Number: 1513-0052.

TTB Form Number: 5110.75.

TTB Recordkeeping Number: 5110/10.

Abstract: The data in this information collection is necessary to determine which persons are qualified to produce alcohol for fuel purposes and to identify such persons. The information collection accounts for distilled spirits produced, verifies the spirits' proper disposition, keeps registrations current, and helps evaluate permissible variations from prescribed procedures.

Current Actions: We are submitting this information collection for extension purposes only. The information collection, estimated number of respondents, and estimated total annual burden hours remain unchanged.

Type of Review: Extension of a currently approved collection.

Affected Public: Farms, Business or other for-profit.

Estimated Number of Respondents: 1,452.

Estimated Total Annual Burden Hours: 1,598.

Title: Importer's Records and Reports.

OMB Control Number: 1513-0064.

TTB Recordkeeping Number: 5170/1.

Abstract: This recordkeeping requirement concerns the records that must be maintained by an importer. The records are used by TTB to verify that operations are being conducted in compliance with the law and to ensure that all taxes and duties have been paid on imported spirits, thus protecting the revenue. The record retention requirement for this information collection is 3 years.

Current Actions: We are submitting this information collection for extension purposes only. This information collection, the estimated number of respondents, and the estimated total annual burden hours remain unchanged.

Type of Review: Extension of a currently approved collection.

Affected Public: Business and other for-profit.

Estimated Number of Respondents: 500.

Estimated Total Annual Burden Hours: 251.

Title: Records of Operations—Manufacturer of Tobacco Products or Processed Tobacco.

OMB Control Number: 1513-0068.

TTB Recordkeeping Number: 5210/1.

Abstract: Tobacco Products or processed tobacco manufacturers must maintain records that provide accountability over the tobacco products or processed tobacco received and produced. These records ensure that each tobacco product or processed tobacco transaction can be traced, and ensure that tax liabilities are totally satisfied.

Current Actions: We are submitting this information collection for extension purposes only. This information collection, the estimated number of respondents, and the estimated total annual burden hours remain unchanged.

Type of Review: Extension of a currently approved collection.

Affected Public: Business and other for-profit.

Estimated Number of Respondents: 193.

Estimated Total Annual Burden Hours: 386.

Title: Tobacco Export Warehouse—Record of Operations.

OMB Control Number: 1513-0070.

TTB Form Number: 5110.38.

Abstract: Tobacco Export Warehouses are used to store untaxpaid tobacco products and processed tobacco until they are exported. TTB uses these records to maintain accountability over these commodities. These records also allow TTB to verify that all commodities have been exported or tax liabilities are satisfied, thus protecting tax revenue.

Current Actions: We are submitting this information collection for extension purposes only. This information collection, the estimated number of respondents, and the estimated total annual burden hours remain unchanged.

Type of Review: Extension of a currently approved collection.

Affected Public: Business and other for-profit.

Estimated Number of Respondents: 80.

Estimated Total Annual Burden Hours: 1 (one).

Title: Applications and Notices—Manufacturers of Nonbeverage Products.

OMB Control Number: 1513-0072.

TTB Recordkeeping Number: 5530/1.

Abstract: These reports (Letterhead Applications and Notices) are submitted by manufacturers of nonbeverage products who are using distilled spirits upon which drawback will be claimed. These reports are used by TTB National Revenue Center personnel to ensure that the regulated individuals will conduct operations in compliance with the law and regulations. The applications and notices serve to protect the revenue by helping TTB personnel determine if spirits on which drawback has been claimed have been diverted to beverage use.

Current Actions: We are submitting this information collection for extension purposes only. This information collection, the estimated number of respondents, and the estimated total annual burden hours remain unchanged.

Type of Review: Extension of a currently approved collection.

Affected Public: Business and other for-profit.

Estimated Number of Respondents: 510.

Estimated Total Annual Burden Hours: 510.

Title: Records of Things of Value to Retailers, and Occasional Letter Reports from Industry Members Regarding Information of Sponsorships, Advertisements, Promotions, etc. under the FAA Act.

OMB Control Number: 1513-0077.

TTB Recordkeeping Number: 5190/1.

Abstract: These records and occasional letter reports are used to show compliance with the provisions of the Federal Alcohol Administration Act, which prohibits wholesalers, producers, or importers from giving things of value to retail liquor dealers, and which also prohibits industry members from conducting certain types of sponsorships, advertising, promotions, etc.

Current Actions: We are submitting this information collection for extension purposes only. This information collection, the estimated number of respondents, and the estimated total annual burden hours remain unchanged.

Type of Review: Extension of a currently approved collection.

Affected Public: Business and other for-profit, Individuals, or households.

Estimated Number of Respondents: 12,665.

Estimated Total Annual Burden Hours: 51.

Title: Application for Extension of Time for Payment of Tax.

OMB Control Number: 1513-0093.

TTB Form Number: 5600.38.

Abstract: TTB uses this information to determine if a taxpayer is qualified to extend payment of tax based on circumstances beyond the taxpayer's control. The record retention requirement for this information collection is 3 years.

Current Actions: We are submitting this information collection for extension of purposes only. This information collection, estimated number of respondents, and estimated total annual burden hours remain unchanged.

Type of Review: Extension of a currently approved collection.

Affected Public: Business or other for-profit.

Estimated Number of Respondents: 12.

Estimated Total Annual Burden Hours: 3.

Title: Supporting Data for Nonbeverage Drawback Claims.

OMB Control Number: 1513-0098.

TTB Form Number: 5154.2.

Abstract: The form substantiates nonbeverage drawback claims by documenting the use of taxpaid distilled spirits in the manufacture of nonbeverage products. The form is used in TTB's National Revenue Center to verify that all distilled spirits can be accounted for and that drawback is paid only in the amount and for the purposes authorized by law.

Current Actions: We are submitting this information collection for extension purposes only. This information collection, the estimated number of respondents, and the estimated total annual burden hours remain unchanged.

Type of Review: Extension of a currently approved collection.

Affected Public: Business or other for-profit.

Estimated Number of Respondents: 590.

Estimated Total Annual Burden Hours: 3,422.

Title: Record of Operations—Importer of Tobacco Products or Processed Tobacco.

OMB Control Number: 1513-0106.

TTB Recordkeeping Number: None.

Abstract: Importers of tobacco products or processed tobacco are required to maintain records of physical receipts and disposition of tobacco products or processed tobacco in order to prepare TTB Form 5220.6 (a monthly report). Importers of tobacco products and processed tobacco will consist of both large and small businesses that operate for profit.

Current Actions: We are submitting this information collection for extension purposes only. This information collection, the estimated number of respondents, and the estimated total annual burden hours remain unchanged.

Type of Review: Extension of a currently approved collection.

Affected Public: Business or other for-profit.

Estimated Number of Respondents: 586.

Estimated Total Annual Burden Hours: 1 (one).

Title: Monthly Report—Importer of Tobacco Products or Processed Tobacco.

OMB Control Number: 1513-0107.

TTB Form Number: 5220.6.

Abstract: Reports of the importation and disposition of tobacco products and processed tobacco are necessary to determine whether those persons issued the permits required by 26 U.S.C. 5713 should be allowed to continue their operations or renew their permits. This report is also used to determine if tobacco products or processed tobacco are being diverted for illegal purposes and to ensure that holders of basic permits are engaging in the operations stated on their basic permit.

Current Actions: We are submitting this information collection for extension purposes only. This information collection, the estimated number of respondents, and the estimated total annual burden hours remain unchanged.

Type of Review: Extension of a currently approved collection.

Affected Public: Business and other for-profit.

Estimated Number of Respondents: 586.

Estimated Total Annual Burden Hours: 14,064.

Title: Application, Permit, and Report—Wine and Beer (Puerto Rico); and Application, Permit, and Report—Distilled Spirits Products (Puerto Rico).

OMB Control Number: 1513-0123.

TTB Forms: 5100.21 and 5110.51.

Abstract: TTB F 5100.21 is a permit to compute the tax on, tax pay, and withdraw shipments of wine or beer from Puerto Rico to the United States, as substantively required by 27 CFR 26.93. TTB F 5110.51 is a permit to compute the tax on, tax pay, and withdraw shipments of distilled spirits products from Puerto Rico to the United States, as substantively required by 27 CFR 26.78.

Current Actions: We are submitting this information collection for extension purposes only. This information collection, the estimated number of respondents, and the estimated total annual burden hours remain unchanged.

Type of Review: Extension of a currently approved collection.

Affected Public: Business or other for-profit.

Estimated Number of Respondents: 35.

Estimated Total Annual Burden Hours: 6.

Title: Report of Removal, Transfer, or Sale of Processed Tobacco.

OMB Control Number: 1513-0130.

TTB Form Number: 5250.2.

Abstract: TTB believes that unregulated transfers or sales of processed tobacco to persons who do not hold TTB permits could lead to processed tobacco falling into the hands of persons who would be unknown and unaccountable to TTB, including illegal manufacturers. In order to better regulate processed tobacco and prevent diversion, TTB requires the filing of a report covering all such transfers or sales. This report is used to protect the revenue.

Current Actions: We are submitting this information collection for extension purposes only. This information collection, the estimated number of respondents, and the estimated total annual burden hours remain unchanged.

Type of Review: Extension of a currently approved collection.

Affected Public: Business or other for-profit.

Estimated Number of Respondents: 779.

Estimated Total Annual Burden Hours: 2,337.

Dated: September 11, 2009.
Francis W. Foote,
Director, Regulations and Rulings Division.

[FR Doc. E9-22456 Filed 9-17-09; 8:45 am]

BILLING CODE 4810-31-P